DEPARTMENT OF DEFENSE

Office of the Secretary

[Transmittal No. 22-48]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-48 with attached Policy Justification and Sensitivity of Technology.

Dated: June 10, 2024.
Aaron T. Siegel,
Alternate OSD Federal Register Liaison Officer, Department of Defense.

BILLING CODE 6001-FR-P

BILLING CODE 6001-FR-C

Transmittal No. 22-48

Notice of Proposed Issuance of Letter of Offer Pursuant to Section 36(b)(1) of the Arms Export Control Act, as amended

(i) Prospective Purchaser: Government of the United Kingdom

(ii) Total Estimated Value:

Major Defense Equipment * | $145 million
Other | $155 million
TOTAL | $300 million

(iii) Description and Quantity or Quantities of Articles or Services under Consideration for Purchase:

Major Defense Equipment (MDE):

Five hundred thirteen (513) Javelin Lightweight Command Launch Units (LWCLUs)

Non-MDE:

Also included are Javelin LWCLU Basic Skills Trainers (BSTs); Javelin Outdoor Trainers (JOTs); Javelin Vehicle Launcher Electronics (JVL-Es); Javelin LWCLU Train the Trainer Package; Lifecycle Support; System Integration and Check out (SICO); Javelin Operator Manual; Technical Assistance (TAGM); and other related elements of logistical and program support.

(iv) Military Department: Army (UK-B-WVA)

(v) Prior Related Cases, if any: UK-B-WML, UK-B-WUJ

(vi) Sales Commission, Fee, etc., Paid, Offered, or Agreed to be Paid: None known at this time.

(vii) Sensitivity of Technology Contained in the Defense Article or Defense Services Proposed to be Sold: See Attached Annex

(viii) Date Report Delivered to Congress: August 1, 2022

* As defined in Section 47(6) of the Arms Export Control Act.

POLICY JUSTIFICATION

United Kingdom—Javelin Lightweight Command Launch Units

The Government of the United Kingdom has requested to buy five hundred thirteen (513) Javelin LWCLUs. Also included are Javelin LWCLU BSTs; JOTs; JVL-Es; Javelin LWCLU Train the Trainer Package; Lifecycle Support; SICO; Javelin Operator Manual; Technical Assistance (TAGM); and other related elements of logistical and program support. The total estimated program cost is $300 million.

This proposed sale will support the foreign policy goals and national security objectives of the United States by improving the security of a NATO ally that is a force for political stability and economic progress in Europe.

The proposed sale will improve the United Kingdom's capability to meet current and future threats. The United Kingdom will use the enhanced capability to strengthen its homeland defense and deter regional threats. The United Kingdom will have no difficulty absorbing this equipment and services into its armed forces.

The proposed sale of this equipment and support will not alter the basic military balance in the region.

The principal contractor will be the Javelin Joint Venture. There are no known offset agreements proposed in connection with this potential sale.

Implementation of this proposed sale will not require the assignment of any U.S. Government or contractor representatives to the United Kingdom.

There will be no adverse impact on U.S. defense readiness as a result of this proposed sale.

Transmittal No. 22-48

Notice of Proposed Issuance of Letter of Offer Pursuant to Section 36(b)(1) of the Arms Export Control Act

Annex

Item No. vii

(vii) Sensitivity of Technology:

1. The Javelin Weapon System is a medium-range, man portable, shoulder-launched, fire and forget, anti-tank system for infantry, scouts, and combat engineers. It may also be mounted on a variety of platforms including vehicles, aircraft and watercraft. The system weighs ~43.5 pounds and has a maximum range in excess of 4,500 meters. The system is highly lethal against tanks and other systems with conventional and reactive armors. The system possesses a secondary capability against bunkers.

2. Javelin's key technical feature is the use of fire-and-forget technology which allows the gunner to fire and immediately relocate or take cover. Additional special features are the top attack and/or direct fire modes, an advanced tandem warhead and imaging infrared seeker, target lock-on before launch, and soft launch from enclosures or covered fighting positions. The Javelin missile also has a minimum smoke motor thus decreasing its detection on the battlefield.

3. The Javelin Weapon System is comprised of two major tactical components, which are a reusable LWCLU and a round contained in a disposable launch tube assembly. The LWCLU incorporates an integrated day-night sight that provides a target engagement capability in adverse weather and countermeasure environments. The LWCLU may also be used in a stand-alone mode for battlefield surveillance and target detection. The LWCLU's thermal sight is a 3rd generation Forward Looking Infrared sensor. To facilitate initial loading and subsequent updating of software, all on-board missile software is uploaded via the LWCLU after mating and prior to launch.

4. The highest level of classification of defense articles, components, and services included in this potential sale is UNCLASSIFIED.

5. If a technologically advanced adversary were to obtain knowledge of the specific hardware and software elements, the information could be used to develop countermeasures that might reduce weapon system effectiveness or be used in the development of a system with similar or advanced capabilities.

6. A determination has been made that the United Kingdom can provide substantially the same degree of protection for the sensitive technology being released as the U.S. Government. This sale is necessary in furtherance of the U.S. foreign policy and national security objectives outlined in the Policy Justification.

7. All defense articles and services listed in this transmittal have been authorized for release and export to the Government of the United Kingdom.

[FR Doc. 2024-12952 Filed 6-12-24; 8:45 am]

BILLING CODE 6001-FR-P